DEPARTMENT OF LABOR

Office of the Secretary

Submission for OMB Review; Comment Request

January 23, 2003.

The Department of Labor (DOL) has submitted the following public information collection request (ICR) to the Office of Management and Budget (OMB) for review and approval in accordance with the Paperwork Reduction Act of 1995 (Pub. L. 104-13, 44 U.S.C. chapter 35). A copy of each individual ICR, with applicable supporting documentation, may be obtained by calling the Department of Labor. To obtain documentation contact Marlene Howze at (202) 693-4158 or e-mail Howze-Marlene@dol.gov.

Comments should be sent to Office of Information and Regulatory Affairs, Attn: OMB Desk Officer for ESA, Office of Management and Budget, Room 10235, Washington, DC 20503 (202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Optional Use Payroll Form Under the Davis-Bacon Act.

OMB Number: 1215-0149.

Affected Public: Business or other-for-profit; Individual or households; Federal government; and State, Local or Tribal Government.

Frequency: Weekly.

Number of Respondents: 100,880.

Number of Annual Responses: 9,280,960.

Estimated Time Per Response: Average of 56 minutes.

Total Burden Hours: 8,700,000.

Total Annualized Capital/Startup Costs: $0.

Total Annual Costs (operating/maintaining systems or purchasing services): $371,238.00.

Description: The Copeland Act (40 U.S.C. 276c) requires contractors and subcontractors performing work on Federally financed or assisted construction contracts to “furnish weekly a statement with respect to the wages paid each employee during the preceding week.” Section 5.5 (a)(3)(ii) of Regulations, 29 CFR part 5, provides that contractors submit weekly a copy of all payrolls to the Federal agency contracting for or financing the construction project, accompanied by a signed “Statement of Compliance” indicating that the payrolls are correct and complete and that each laborer or mechanic had been paid not less than the proper Davis-Bacon prevailing wage rate for the work performed. The Wh-347 is an optional form that may be used by contractors and subcontractors to certify payrolls, attesting that proper wage rates and fringe benefits have been paid to their employees performing work on contracts covered by the Davis-Bacon and related Acts and the Copeland Act.

Ira L. Mills,
Departmental Clearance Officer.

[FR Doc. 03-2284 Filed 1-30-03; 8:45 am]

BILLING CODE 4510-27-M